GENERAL SERVICES ADMINISTRATION

[Notice-MA-2021-02; Docket No. 2021-0002; Sequence No. 9]

Office of Asset and Transportation Management; Presidential Commission on the Supreme Court of the United States; Notification of Upcoming Public Virtual Meeting

AGENCY: Office of Government-wide Policy, General Services Administration (GSA).

ACTION: Meeting notice.

SUMMARY: GSA is providing notice of an open public virtual meeting of the Presidential Commission on the Supreme Court of the United States (Commission) in accordance with the requirements of the Federal Advisory Committee Act. The purpose of this meeting is to provide introductions and a statement of plan for the meeting, a ceremonial swearing in of the Commission members, discussion of the public meeting format and calls for testimony, areas of research focus, and information available on the Commission website.

DATES: The Commission will hold a public virtual meeting on May 19, 2021, from 1 p.m. to 2:30 p.m., Eastern Time (ET).

ADDRESSES: This meeting will be conducted virtually on the internet. Interested individuals must register to attend as instructed below.

Procedures for Attendance and Public Comment

Attendance. This meeting is open to the public and the Commission encourages the public's input. To attend this public virtual meeting, you must register by submitting your full name, organization (if applicable), email address, and phone number to the Designated Federal Officer, at info@pcscotus.gov, listed under FOR FURTHER INFORMATION CONTACT. Registration requests must be received by 5 p.m. ET, on May 17, 2021.

Public Comment. For the Commission to have the best opportunity to review and consider the public's input, written comments must be received via email at info@pcscotus.gov no later than 5 p.m. ET on May 17, 2021. Comments submitted after this date will be provided to the Commission members, but please be advised that Commission members may not have adequate time to consider the comments prior to the meeting.

Special accommodations. For information on services for individuals with disabilities, or to request accommodation of a disability, please contact the Designated Federal Officer at least 10 business days prior to the meeting to give GSA as much time as possible to process the request.

FOR FURTHER INFORMATION CONTACT: For information on the public virtual meeting, contact Dana Fowler, Designated Federal Officer, Office of Government-wide Policy, General Services Administration, at info@pcscotus.gov, 202-501-1777.

SUPPLEMENTARY INFORMATION:

Background

The Administrator of GSA established the Commission as a Presidential advisory committee on April 26, 2021 pursuant to Executive Order 14023, Establishment of the Presidential Commission on the Supreme Court of the United States, issued on April 9, 2021. Per the executive order, the Commission shall produce a report for the President that includes the following:

(i) An account of the contemporary commentary and debate about the role and operation of the Supreme Court in our constitutional system and about the functioning of the constitutional process by which the President nominates and, by and with the advice and consent of the Senate, appoints Justices to the Supreme Court;

(ii) The historical background of other periods in the Nation's history when the Supreme Court's role and the nominations and advice-and-consent process were subject to critical assessment and prompted proposals for reform; and

(iii) An analysis of the principal arguments in the contemporary public debate for and against Supreme Court reform, including an appraisal of the merits and legality of particular reform proposals.

Krystal J. Brumfield,
Associate Administrator, Office of Government-wide Policy.

[FR Doc. 2021-09511 Filed 5-3-21; 8:45 am]

BILLING CODE 6820-14-P